DEPARTMENT OF AGRICULTURE

Cooperative State Research, Education, and Extension Service; Notice of Intent To Extend a Currently Approved Information Collection

AGENCY: Cooperative State Research, Education, and Extension Service, USDA.

AGENCY: Notice and request for comments.

SUMMARY: In accordance with the Paperwork Reduction Act of 1995 and the Office of Management and Budget (OMB) regulations (5 CFR part 1320) which implement the Paperwork Reduction Act of 1995 (44 U.S.C. chapter 35), this notice announces the Cooperative State Research, Education, and Extension Service's (CSREES) intention to request approval to extend the currently approved information collection in support of authorizations to use the 4-H Club Name and/or Emblem.

DATES: Written comments on this notice must be received by July 22, 2005 to be assured of consideration. Comments received after that date will be considered to the extent practicable.

ADDRESSES: Written comments concerning this notice and requests for copies of the information collection may be submitted by any of the following methods to Jason Hitchcock, eGovernment Program Leader, Information Systems and Technology Management; Mail: CSREES, USDA, STOP 2216, 1400 Independence Avenue, SW., Washington, DC 20250-2216; Hand Delivery/Courier: 800 9th Street, SW., Waterfront Centre, Washington, DC 20024; Fax: 202-720-0857; or E-mail: jhitchcock@csrees.usda.gov.

FOR FURTHER INFORMATION CONTACT: Jason Hitchcock, 202-720-4343 or via the above e-mail address. Information is also available at http://www.national4-hheadquarters.gov/emblem/4h_name.htm.

SUPPLEMENTARY INFORMATION: Title: Application for Authorization to Use the 4-H Club Name and/or Emblem.

OMB Number: 0524-0034.

Expiration Date of Approval: March 31, 2006.

Type of Request: Intent to request approval to extend an information collection.

Abstract: Use of the 4-H Club Name and/or Emblem is authorized by an Act of Congress (18 U.S.C. 707). Use of the 4-H Club Name and/or Emblem by anyone other than 4-H Clubs and those duly authorized by them, representatives of the United States Department of Agriculture, the land-grant colleges and universities, and persons authorized by the Secretary of Agriculture is prohibited by the provisions of 18 U.S.C. 707. The Secretary of Agriculture has delegated authority to the Administrator of CSREES to authorize others to use the 4-H Club Name and Emblem. The Administrator has promulgated regulations at 7 CFR part 8 that govern such use. The regulatory requirements for use of the 4-H Club Name and/or Emblem reflect the high standards of 4-H and its educational goals and objectives. Pursuant to provisions of 7 CFR part 8 anyone requesting authorization from the Administrator to use the 4-H Club Name and Emblem is asked to describe the proposed use in a formal application. The collection of this information is used to determine whether the applicant's proposed use will meet the regulatory requirements in 7 CFR part 8 and whether an authorization for use should be granted.

Need and Use of the Information: CSREES will collect information on the name of the individual, partnership, corporation, or association; the organizational address; the name of an authorized representative; the telephone number, facsimile number, and e-mail address; the proposed use of the 4-H Club Name and/or Emblem; and the plan for sale or distribution of the product bearing the 4-H Club Name and/or Emblem. The information collected by CSREES will be used to determine if those applying to use the 4-H Name and/or Emblem meet the regulatory requirements. If the information is not collected, it would not be possible to ensure that the products, services, and materials meet the regulatory requirements as well as 4-H educational goals and objectives.

Estimate of Burden: No changes have been proposed to this collection and the public reporting burden remains at the estimated average .5 hours per response.

Respondents: Individuals, households, business or other for-profit or not-for-profit institutions.

Estimated Number of Respondents: 60.

Estimated Number of Responses per Respondents: 2.

Estimated Total Annual Burden on Respondents: 60 hours.

Comments: Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including through the use of appropriate automated, electronic, mechanical, or other technological collection techniques or other forms of information technology.

Done in Washington, DC, this 16th day of May, 2005.
Rodney J. Brown,
Deputy Under Secretary, Research, Education, and Economics.

[FR Doc. 05-10209 Filed 5-20-05; 8:45 am]

BILLING CODE 3410-22-P